DEPARTMENT OF TRANSPORTATION

Federal Highway Administration

Notice To Rescind Notice of Intent To Prepare Environmental Impact Statement, US 301 Waldorf Area Transportation Improvements Project, in Charles and Prince George's Counties, Maryland

AGENCY: Federal Highway Administration (FHWA), DOT.

ACTION: Notice to rescind Notice of Intent to prepare an Environmental Impact Statement.

SUMMARY: The Federal Highway Administration (FHWA) is issuing this notice to advise the public that FHWA is rescinding its Notice of Intent to prepare an Environmental Impact Statement for the US 301 Waldorf Area Transportation Improvements Project in Charles and Prince George's Counties, Maryland.

FOR FURTHER INFORMATION CONTACT: Jeanette Mar, Environmental Program Manager, Federal Highway Administration, Maryland Division, (410) 779-7152, or email: jeanette.mar@dot.gov; Jeremy Beck, MDOT SHA Project Manager (410) 545-8500, or email: JBeck@mdot.maryland.gov.

SUPPLEMENTARY INFORMATION: A Notice of Intent to prepare an Environmental Impact Statement for the US 301 Waldorf Area Transportation Improvements Project was published in the Federal Register at 72 FR 13552 on March 22, 2007. The purpose and need for the project was to improve safety and accommodate existing and projected travel demand in the vicinity of Waldorf, Maryland. No alternative was selected at that time.

The proposed transportation project included a portion of US 301 extending from the US 301 intersection with Turkey Hill Road/Washington Avenue in Charles County, Maryland to the US 301/MD 5 interchange in Prince George's County, Maryland. The project was approximately 13 miles in length.

Due to Federal and State funding constraints, as well as the unlikelihood of adequate funding for all project phases in the foreseeable future, the Notice of Intent is hereby rescinded.

Gregory Murrill,
Division Administrator, Federal Highway Administration, Baltimore, Maryland.

[FR Doc. 2020-14639 Filed 7-7-20; 8:45 am]

BILLING CODE 4910-22-P